DEPARTMENT OF COMMERCE

National Institute of Standards and Technology

Establishment of NIST Smart Grid Advisory Committee and Solicitation of Nominations for Members

AGENCY: National Institute of Standards and Technology, Commerce.

ACTION: Notice of establishment of the NIST Smart Grid Advisory Committee and solicitation of nominations for members.

SUMMARY: Pursuant to the Federal Advisory Committee Act, the National Institute of Standards and Technology (NIST) announces the establishment of the NIST Smart Grid Advisory Committee (Committee). The Committee will advise the Director of NIST in carrying out duties authorized by the Energy Independence and Security Act of 2007.

DATES: Nominations for members of the initial NIST Smart Grid Advisory Committee must be received on or before February 11, 2010. NIST will continue to accept nominations on an ongoing basis and will consider them as vacancies arise.

ADDRESSES: All nominations should be submitted to George Arnold, National Coordinator for Smart Grid Interoperability, National Institute of Standards and Technology, 100 Bureau Drive, Mail Stop 2000, Gaithersburg, MD 20899-2000 or via e-mail to nistsgfac@nist.gov.

FOR FURTHER INFORMATION CONTACT: George Arnold, National Coordinator for Smart Grid Interoperability, Tel: (301) 975-2232, E-mail: nistsgfac@nist.gov.

SUPPLEMENTARY INFORMATION:

I. Background and Authority

The Smart Grid Advisory Committee (Committee), is established to advise the Director of the National Institute of Standards and Technology (NIST) in carrying out duties authorized by section 1305 of the Energy Independence and Security Act of 2007 (Pub. L. 110-140). The Committee is established in accordance with the provisions of the Federal Advisory Committee Act (FACA), as amended, 5 U.S.C., App. The Committee will provide input to NIST on the Smart Grid Standards, Priorities and Gaps; and provide input to NIST on the overall direction, status and health of the Smart Grid implementation by the Smart Grid industry including identification of issues and needs. The Committee's input to NIST will be used to help guide Smart Grid Interoperability Panel activities and also assist NIST in directing research and standards activities. Upon request of the Director of NIST, the Committee will prepare reports on issues affecting Smart Grid activities.

II. Structure

The Director of NIST shall appoint the members of the Committee, and they will be selected on a clear, standardized basis, in accordance with applicable Department of Commence guidance. Members shall be selected on the basis of established records of distinguished service in their professional community and their knowledge of issues affecting Smart Grid deployment and operations. Members shall serve as Special Government Employees. Members serve at the discretion of the NIST Director.

Members shall reflect the wide diversity of technical disciplines and competencies involved in the Smart Grid deployment and operations and will come from a cross section of organizations. Members may come from organizations such as electric utilities, consumers, IT developers and integrators, smart grid equipment manufacturers/vendors, RTOs/ITOs, electricity market operators, electric transportation industry stake holders, standards development organizations, professional societies, research and development organizations and academia.

The Committee shall consist of not fewer than 9 nor more than 15 members. The term of office of each member of the Committee shall be 3 years, except that vacancy appointments shall be for the remainder of the unexpired term of the vacancy and that the initial members shall have staggered terms such that the Committee will have approximately ⅓ new or reappointed members each year. Members who are not able to fulfill the duties and responsibilities of the Committee will have their membership terminated. Any person who has completed two consecutive full terms of service on the Committee shall be ineligible for appointment for a third term during the one year period following the expiration of the second term.

The Director of NIST shall appoint the Chairperson and Vice Chairperson from among the members of the Committee. The Chairperson and Vice Chairperson's tenure shall be at the discretion of the Director of NIST. The Vice Chairperson shall perform the duties of the Chairperson in his or her absence. In case a vacancy occurs in the position of the Chairperson or Vice Chairperson, the NIST Director will select a member to fill such vacancy.

III. Compensation

Members of the Committee shall not be compensated for their service, but will, upon request, be allowed travel and per diem expenses in accordance with 5 U.S.C. 5701 et seq. while attending meetings of the Committee or subcommittees thereof, or while otherwise performing duties at the request of the Chair, while away from their homes or regular place of business.

IV. Nominations

Nominations are sought from all fields involved in issues affecting the Smart Grid. Nominees should have established records of distinguished service. The field of expertise that the candidate represents he/she is qualified should be specified in the nomination letter. Nominations for a particular field should come from organizations or individuals within that field. A summary of the candidate's qualifications should be included with the nomination, including (where applicable) current or former service on Federal advisory boards and Federal employment. In addition, each nomination letter should state that the person agrees to the nomination, acknowledges the responsibilities of serving on the Committee, and will actively participate in good faith in the tasks of the Committee. The Department of Commerce is committed to equal opportunity in the workplace and seeks a broad-based and diverse Committee membership. Registered lobbyists may not be members.

Date: January 7, 2010.
Marc G. Stanley,
Acting Deputy Director.

[FR Doc. 2010-344 Filed 1-11-10; 8:45 am]

BILLING CODE 3510-13-P